DEPARTMENT OF ENERGY

Federal Energy Regulatory Commission

[Project No. 1889-085, Project No. 2485-071]

Revised Procedural Schedule for Environmental Impact Statement for the Proposed Project Relicenses: FirstLight MA Hydro LLC, Northfield Mountain LLC

On April 29, 2016, and materially amended on December 4, 2020, FirstLight MA Hydro LLC and Northfield Mountain LLC, respectively, filed applications for new major licenses to operate the 62.0-megawatt (MW) Turners Falls Hydroelectric Project (Turners Falls Project; FERC No. 1889) and 1,166.8-MW Northfield Mountain Pumped Storage Project (Northfield Mountain Project; FERC No. 2485) (collectively, projects). On June 5, 2024, Commission staff issued a notice of intent to prepare an Environmental Impact Statement (EIS) to evaluate the effects of relicensing the projects. The notice included an anticipated schedule for issuing the draft and final EIS.

By this notice, Commission staff is updating the procedural schedule for completing the draft and final EIS. The revised schedule is shown below. Further revisions to the schedule may be made as appropriate.

Milestone | Target date
Issue draft EIS | April 2025.
Draft EIS Public Meeting | May 2025.
Comments on draft EIS due | June 2025.
Commission issues final EIS | December 2025.

Pursuant to 42 U.S.C. 4336a(c), we are soliciting additional comments on alternatives or impacts and on relevant information, studies, or analyses with respect to the proposed action. Such comments must be filed within 30 days of this notice. Comments on these topics already filed in response to the REA Notice do not need to be refiled.

The Commission strongly encourages electronic filing. Please file comments using the Commission's eFiling system at http://www.ferc.gov/docs-filing/efiling.asp. Commenters can submit brief comments up to 6,000 characters, without prior registration, using the eComment system at http://www.ferc.gov/docs-filing/ecomment.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page.

The Commission's Rules of Practice and Procedures require all intervenors filing documents with the Commission to serve a copy of that document on each person on the official service list for the project. Further, if an intervenor files comments or documents with the Commission relating to the merits of an issue that may affect the responsibilities of a particular resource agency, they must also serve a copy of the document on that resource agency.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or OPP@ferc.gov.

Any questions regarding this notice may be directed to Steve Kartalia at (202) 502-6131 or stephen.kartalia@ferc.gov.

Dated: November 21, 2024.
Debbie-Anne A. Reese,
Secretary.

[FR Doc. 2024-27970 Filed 11-27-24; 8:45 am]

BILLING CODE 6717-01-P